DEPARTMENT OF THE INTERIOR

National Park Service

Notice of Availability of a Draft Environmental Impact Statement for the Special Resource Study for the Battle of Homestead and Carrie Furnaces Sites

AGENCY: National Park Service, Department of Interior.

ACTION: Availability of draft environmental impact statement for the Special Resource Study for the Battle of Homestead and Carrie Furnaces sites.

SUMMARY: Pursuant to section 102(2)(C) of the National Environmental Policy Act of 1969, the National Park Service announces the availability of a Draft Environmental Impact Statement (DEIS) for the Special Resource Study for the Battle of Homestead and Carrie Furnaces sites in Homestead, Pennsylvania. The Department of the Interior and Related Agencies Appropriations Bill (House of Representatives Committee Report 105-609) directed the National Park System to undertake a Special Resource Study for the Battle of Homestead and Carrie Furnace sites in Pennsylvania. The purpose of a Special Resource Study is to determine the degree and kind of federal actions that may be desirable for the management and protection of an area considered to have potential for addition to the National Park System. This is a Special Resource Study (SRS) of the U.S. Steel Homestead Works including the Battle of Homestead site and adjacent town of Homestead and the related Carrie Furnace area. The study area includes the National Historic District in the town of Homestead, the landing site and pump house, the site of Carrie Furnaces number 6 and 7, and the Hot Metal Bridge. The study addresses the significance of the site in the contexts of the history of steel making and labor history in the United States.

The study area, includes portions of four boroughs within Allegheny County: Homestead, Munhall, Rankin and Swissvale.

The land under consideration is currently part of the Rivers of Steel National Heritage Area, but it is all in private ownership and there is not expected to be any federal ownership and no NPS management role. Instead, conservation, interpretation and other activities will continue to be managed by partnerships among federal, state, and local governments and private nonprofit organizations. The national heritage area is managed by the Steel Industry Heritage Corporation (SIHC), a non-profit 501(c)(3). The National Park Service has been authorized by Congress to provide technical and financial assistance for a limited period to the SIHC (up to 10 years from the time of the designation in 1996).

DATES: The DEIS will remain on Public Review for a period of sixty days after the Federal Register Announcement by the U.S. Environmental Protection Agency. If necessary a public meeting will be scheduled and notice will be made of the meeting through a broad public mailing and publication in the local newspapers.

FOR FURTHER INFORMATION CONTACT: Peter Samuel, Project Leader, Philadelphia Support Office, National Park Service, U.S. Custom House, 200 Chestnut Street, Philadelphia, PA 19106, peter_samuel@nps.gov, 215-597-1848.

If you correspond using the internet, please include your name and return address in your e-mail message. Our practice is to make comments, including names and home addresses of respondents, available for public review. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: August 7, 2002.
David Hollenberg,
Assistant Regional Director, National Heritage Partnerships, NPS Northeast Region.

[FR Doc. 02-24047 Filed 9-20-02; 8:45 am]

BILLING CODE 4310-70-M